DEPARTMENT OF COMMERCE

International Trade Administration

[A-570-983]

Drawn Stainless Steel Sinks From the People's Republic of China: Final Results of Antidumping Duty Administrative Review; 2019-2020

AGENCY: Enforcement and Compliance, International Trade Administration, Department of Commerce.

SUMMARY: The Department of Commerce (Commerce) finds that certain companies covered by this administrative review sold drawn stainless sinks from the People's Republic of China (China) at less than normal value during the period of review (POR) April 1, 2019, through March 31, 2020.

DATES: Applicable April 9, 2021.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

On January 28, 2021, Commerce published the Preliminary Results and invited interested parties to comment.¹ We received no comments from interested parties on the Preliminary Results. Commerce conducted this administrative review in accordance with section 751 of the Tariff Act of 1930, as amended (the Act).

¹ See Drawn Stainless Steel Sinks from the People's Republic of China: Preliminary Results of the Antidumping Duty Administrative Review and Preliminary Determination of No Shipments; 2019-2020, 86 FR 7363 (January 28, 2021) (Preliminary Results), and accompanying Preliminary Decision Memorandum (PDM).

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.²

² For a complete description of the scope of the order, see the Preliminary Results PDM at 4.

Final Results of Review

Because we received no comments, we made no changes from the Preliminary Results. Therefore, we continue to find that the two mandatory respondents, Jiangmen New Star Hi-Tech Enterprise Ltd. (New Star) and Zhuhai Kohler Kitchen & Bathroom Products Co., Ltd. (Kohler), have not established their eligibility for a separate rate and are part of the China-wide entity. We also continue to find for these final results that, because the following companies did not submit separate rate applications or certifications, they are ineligible for a separate rate and are part of the China-wide entity: Guangdong G-Top Import & Export Co., Ltd. (G-Top); Jiangmen Pioneer Import & Export Co., Ltd. (Pioneer); and Zhongshan Superte Kitchenware Co., Ltd. (Superte). Finally, we continue to grant a separate rate to KaiPing Dawn Plumbing Products Inc. (KaiPing Dawn), which demonstrated eligibility for separate rate status but was not selected for individual examination.³ We determine that the dumping margin for KaiPing Dawn for the period April 1, 2019, through March 31, 2020 is as follows:

³ We assigned KaiPing Dawn the most recently assigned separate rate in this proceeding (i.e., 1.78 percent). See Drawn Stainless Steel Sinks from the People's Republic of China: Final Results of Antidumping Duty Administrative Review; 2018-2019, 85 FR 11341 (February 27, 2020).

Exporter | Weighted- average dumping margin (percent)
KaiPing Dawn Plumbing Products Inc | 1.78

Assessment Rates

Commerce shall determine, and U.S. Customs and Border Protection (CBP) shall assess, antidumping duties on all appropriate entries in accordance with section 751(a)(2)(C) of the Act and 19 CFR 351.212(b). Because we determined that the following companies were not eligible for a separate rate and are part of the China-wide entity, we will instruct CBP to apply an ad valorem assessment rate of 76.45 percent to all entries of subject merchandise during the POR that were produced and/or exported by: New Star; Kohler; G-Top; Pioneer; and Superte. We will instruct CBP to apply an assessment rate to all entries of merchandise produced and/or exported by KaiPing Dawn equal to the dumping margin indicated above.

Consistent with its recent notice,⁴ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁴ See Notice of Discontinuation of Policy to Issue Liquidation Instructions After 15 Days in Applicable Antidumping and Countervailing Duly Administrative Proceedings, 86 FR 3995 (January 15, 2021).

Cash Deposit Requirements

The following cash deposit requirements will be effective for all shipments of subject merchandise entered, or withdrawn from warehouse, for consumption on or after the publication date of the final results of this administrative review, as provided by section 751(a)(2)(C) of the Act: (1) For the company listed above that has a separate rate, the cash deposit rate will be the rate established in these final results of review; (2) for previously investigated or reviewed Chinese and non-Chinese exporters not listed above that have separate rates, the cash deposit rate will continue to be equal to the exporter-specific weighted-average dumping margin published of the most recently-completed segment of this proceeding; (3) for all Chinese exporters of subject merchandise that have not been found to be entitled to a separate rate, the cash deposit rate will be the rate for the China-wide entity, 76.45 percent; and (4) for all exporters of subject merchandise which are not located in China and which are not eligible for a separate rate, the cash deposit rate will be the rate applicable to Chinese exporter(s) that supplied that non-Chinese exporter. These deposit requirements, when imposed, shall remain in effect until further notice.

Notification to Importers

This notice serves as a reminder to importers of their responsibility, under 19 CFR 351.402(f)(2), to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(a)(1) and 777(i) of the Act, and 19 CFR 351.213(h) and 351.221(b)(5).

Dated: April 5, 2021.
Christian Marsh,
Acting Assistant Secretary for Enforcement and Compliance.

[FR Doc. 2021-07307 Filed 4-8-21; 8:45 am]

BILLING CODE 3510-DS-P